SUSQUEHANNA RIVER BASIN COMMISSION

Actions Taken at March 16, 2023 Meeting

AGENCY: Susquehanna River Basin Commission.

ACTION: Notice.

SUMMARY: As part of its regular business meeting held on March 16, 2023, in Harrisburg, Pennsylvania, the Commission approved the applications of certain water resources projects and took additional actions, as set forth in the SUPPLEMENTARY INFORMATION below.

DATES: March 16, 2023.

ADDRESSES: Susquehanna River Basin Commission, 4423 N Front Street, Harrisburg, PA 17110-1788.

FOR FURTHER INFORMATION CONTACT: Jason E. Oyler, General Counsel, and Secretary, telephone: (717) 238-0423, ext. 1312, fax: (717) 238-2436; email: joyler@srbc.net. Regular mail inquiries may be sent to the above address. See also the Commission website at www.srbc.net.

SUPPLEMENTARY INFORMATION: In addition to the actions taken on projects identified in the summary above, these actions were also taken: (1) ratification of one grant amendment and approval of one grant agreement; (2) authorization to release a proposed general permit GP-02 for public comment (3) and actions on 18 regulatory program projects.

Project Applications Approved

1. Project Sponsor and Facility: BKV Operating, LLC (North Branch Wyalusing Creek), Middletown Township, Susquehanna County, Pa. Application for surface water withdrawal of up to 2.731 mgd (peak day).

2. Project Sponsor and Facility: Dover Township, York County, Pa. Application for renewal of groundwater withdrawal of up to 0.360 mgd (30-day average) from Well 8 (Docket No. 19911104).

3. Project Sponsor and Facility: First Quality Tissue, LLC (Bald Eagle Creek), Allison, Bald Eagle, and Castanea Townships, Clinton County, Pa. Applications for renewal of surface water withdrawal of up to 10.500 mgd (peak day) and consumptive use of up to 2.500 mgd (peak day) (Docket No. 20080303).

4. Project Sponsor and Facility: Hardinge Inc., Town of Horseheads, Chemung County, N.Y. Applications for groundwater withdrawals (30-day averages) of up to 0.550 mgd from Well 4 and renewal of 0.580 mgd from Well 5 (Docket No. 19900302).

5. Project Sponsor: Helix Ironwood, LLC. Project Facility: Ironwood Generating Station (Pennsy Quarry), South Lebanon Township, Lebanon County, Pa. Applications for renewal of surface water withdrawal, consumptive use and out-of-basin diversion of up to 4.500 mgd (peak day) (Docket No. 19980502).

6. Project Sponsor and Facility: Mount Union Municipal Authority, Wayne Township, Mifflin County, Pa. Application for renewal of groundwater withdrawal of up to 0.432 mgd (30-day average) from Well #3—Lemkelde (Docket No. 20070303).

7. Project Sponsor and Facility: Repsol Oil & Gas USA, LLC (Fall Brook), Ward Township, Tioga County, Pa. Application for renewal of surface water withdrawal of up to 0.999 mgd (peak day) (Docket No. 20180303).

8. Project Sponsor and Facility: Repsol Oil & Gas USA, LLC (Fellows Creek), Ward Township, Tioga County, Pa. Application for renewal of surface water withdrawal of up to 0.999 mgd (peak day) (Docket No. 20180304).

9. Project Sponsor and Facility: Seneca Resources Company, LLC (Arnot No. 5 Mine Discharge), Bloss Township, Tioga County, Pa. Application for renewal of surface water withdrawal of up to 0.499 mgd (peak day) (Docket No. 20180305).

10. Project Sponsor and Facility: Seneca Resources Company, LLC (Cowanesque River), Deerfield Township, Tioga County, Pa. Application for renewal with modification to increase the surface water withdrawal by an additional 0.661 mgd, for a total of up to 1.600 mgd (peak day) (Docket No. 20220920).

11. Project Sponsor and Facility: Seneca Resources Company, LLC (Susquehanna River), Sheshequin Township, Bradford County, Pa. Application for renewal of surface water withdrawal of up to 0.850 mgd (peak day) (Docket No. 20180306).

12. Project Sponsor: Springwood, LLC. Project Facility: Bridgewater Golf Club, York Township, York County, Pa. Application for renewal of consumptive use of up to 0.099 mgd (30-day average) (Docket No. 20080307).

13. Project Sponsor and Facility: SWN Production Company, LLC (Susquehanna River), Great Bend Township, Susquehanna County, Pa. Application for renewal of surface water withdrawal of up to 1.500 mgd (peak day) (Docket No. 20180307).

14. Project Sponsor and Facility: Wise Foods, Inc., Berwick Borough, Columbia County, Pa. Application for renewal of groundwater withdrawal of up to 0.860 mgd (30-day average) from Well PW-1 (Docket No. 19920502).

15. Project Sponsor: Wynding Brook Inc. Project Facility: Wynding Brook Golf Club, Turbot Township, Northumberland County, Pa. Application for renewal of consumptive use of up to 0.099 mgd (30-day average) (Docket No. 20080304).

Commission-Initiated Project Approval Modification

1. Project Sponsor: Knouse Foods Cooperative, Inc. Project Facility: Peach Glen Plant, Tyrone and Huntington Townships, Adams County, and Dickinson Township, Cumberland County, Pa. Conforming the grandfathered amount with the forthcoming determination for groundwater withdrawals (30-day averages) of up to 0.327 mgd combined from Wells 2, 4, 5, 7, 8, 9, 10, and 13, and up to 0.046 mgd from Well 13 (Docket No. 20040912).

Projects Tabled

1. Project Sponsor: Biglerville Borough Authority. Project Facility: Biglerville Borough Water Company, Biglerville Borough and Butler Township, Adams County, Pa. Application for renewal of groundwater withdrawal of up to 0.112 mgd (30-day average) from Well 7 (Docket No. 19930503).

2. Project Sponsor and Facility: Dillsburg Area Authority, Carroll Township, York County, Pa. Application for renewal of groundwater withdrawal of up to 0.460 mgd (30-day average) from Well 7 (Docket No. 20070907).

Authority: Public Law 91-575, 84 Stat. 1509 et seq., 18 CFR parts 806, 807, and 808.

Dated: March 21, 2023.
Jason E. Oyler,
General Counsel and Secretary to the Commission.

[FR Doc. 2023-06125 Filed 3-23-23; 8:45 am]

BILLING CODE 7040-01-P